DEPARTMENT OF AGRICULTURE

Natural Resources Conservation Service

Twin Parks Watershed, Iowa County, Wisconsin

AGENCY: Natural Resources Conservation Service (NRCS) in Wisconsin Department of Agriculture.

ACTION: Notice of a Finding of No Significant Impact.

SUMMARY: Pursuant to section 102(2)(c) of the National Environmental Policy Act of 1969; the Council on Environmental Quality Regulations (40 CFR part 1500); and the Natural Resources Conservation Service Regulations (7 CFR part 650); the Natural Resources Conservation Service, Department of Agriculture, gives notice that an environmental impact statement is not being prepared for the Twin Parks Watershed, Iowa County, Wisconsin.

FOR FURTHER INFORMATION CONTACT: Thomas Krapf, Water Resources Staff Leader, Natural Resources Conservation Service, 6515 Watts Road, Suite 200, Madison, Wisconsin, 53719. Telephone (608) 276-8732.

SUPPLEMENTARY INFORMATION: The environmental assessment of this federally assisted action indicates that the project will not cause significant local, regional, or national impacts on the environment. As a result of these findings, Patricia S. Leavenworth, State Conservationist, has determined that the preparation and review of an environmental impact statement are not needed for this project.

The project purpose is flood prevention. The planned works of improvement include: the repair of a pipe separation in Twin Parks Structure Number 10, the raising of the dam an average of one foot to meet current freeboard guidelines, and the enactment of a county floodplain zoning ordinance which restricts future development within the hydraulic shadow of Structure Number 10.

The Notice of a Finding of No Significant Impact (FONSI) has been forwarded to the Environmental Protection Agency and to various Federal, State, and local agencies and interested parties. A limited number of copies of the FONSI are available to fill single copy requests at the above address. Basic data developed during the environmental assessment are on file and may be reviewed by contacting Thomas Krapf.

No administrative action on implementation of the proposal will be taken until 30 days after the date of this publication in the Federal Register.

Dated: July 24, 2002.
Patricia S. Leavenworth,
State Conservationist.

[FR Doc. 02-21714 Filed 8-26-02; 8:45 am]

BILLING CODE 3410-16-P